DEPARTMENT OF TRANSPORTATION

Federal Aviation Administration

14 CFR Part 39

[Docket No. 2002-NM-228-AD; Amendment 39-13793; AD 2004-18-14]

RIN 2120-AA64

Airworthiness Directives; Airbus Model A330 and Model A340-200 and -300 Series Airplanes

AGENCY: Federal Aviation Administration, DOT.

ACTION: Final rule.

SUMMARY: This amendment supersedes an existing airworthiness directive (AD), applicable to certain Airbus Model A330 and A340-200 and -300 series airplanes, that currently requires revising the Limitations Section of the airplane flight manual (AFM) to ensure that the flightcrew is advised of the proper procedures in the event of uncommanded movement of a spoiler during flight. This amendment adds inspections of the function of the pressure relief valves of each spoiler servo control (SSC), and corrective action if necessary. This new AD also mandates eventual modification of the SSCs, which terminates the AFM revision in the existing AD. The actions specified by this AD are intended to prevent uncommanded movement of a spoiler during flight, which could result in reduced controllability of the airplane and consequent significant increased fuel consumption during flight, which could necessitate an in-flight turn-back or diversion to an unscheduled airport destination. This action is intended to address the identified unsafe condition.

DATES: Effective October 19, 2004.

The incorporation by reference of certain publications listed in the regulations is approved by the Director of the Federal Register as of October 19, 2004.

ADDRESSES: The service information referenced in this AD may be obtained from Airbus, 1 Rond Point Maurice Bellonte, 31707 Blagnac Cedex, France. This information may be examined at the Federal Aviation Administration (FAA), Transport Airplane Directorate, Rules Docket, 1601 Lind Avenue, SW., Renton, Washington; or at the National Archives and Records Administration (NARA). For information on the availability of this material at NARA, call (202) 741-6030, or go to: http://www.archives.gov/federal_register/code_of_federal_regulations/ibr_locations.html.

FOR FURTHER INFORMATION CONTACT: Tim Backman, Aerospace Engineer, International Branch, ANM-116, FAA, Transport Airplane Directorate, 1601 Lind Avenue, SW., Renton, Washington 98055-4056; telephone (425) 227-2797; fax (425) 227-1149.

SUPPLEMENTARY INFORMATION: A proposal to amend part 39 of the Federal Aviation Regulations (14 CFR part 39) by superseding AD 2002-16-12, amendment 39-12851 (67 FR 53478, August 16, 2002), which is applicable to certain Airbus Model A330 and A340 series airplanes, was published in the Federal Register on April 1, 2004 (69 FR 17091). The action proposed to continue to require revising the Limitations Section of the airplane flight manual (AFM) to ensure the flightcrew is advised of the proper procedures in the event of uncommanded movement of a spoiler during flight. The proposed AD also would require inspections and checks of the function of the pressure relief valves of each spoiler servo control (SSC), and corrective action if necessary. The proposed AD would also mandate eventual modification of the SSCs, which would terminate the AFM revision in the existing AD.

Comments

Interested persons have been afforded an opportunity to participate in the making of this amendment. Due consideration has been given to the comments received.

One commenter supports the proposed AD. One commenter indicates that it does not own or operate any affected airplanes.

Request To Change Applicability

One commenter reiterates the applicability listed in the French airworthiness directives referenced in the proposed AD, and issued by the Direction Générale de l'Aviation Civile (DGAC), which is the airworthiness authority for France, and suggests that the applicability specified in the proposed AD be changed to match the French airworthiness directives.

We do not agree. The applicability specified in the proposed AD was carried over from AD 2002-16-12, and has not changed. For clarification, the model designation listed on the type certificate data sheet, specifying Airbus Model A330 series airplanes, covers the airplane models identified as “Airbus Model A330-201, -202, -203, -223, -243, -301, -321, -322, -323, -341, -342, and -343 airplanes.” Airbus Model A340-200 and -300 series airplanes covers the airplane models identified as “Airbus Model A340-211, -212, -213, and A340-311, -312, and -313 airplanes.” In addition, the applicability in the proposed AD already specifies the part numbers for the SSCs, as does the effectivity in the French airworthiness directives. No change is made to the AD in this regard.

Request To Clarify Paragraphs (c) and (d) of the Proposed AD

One commenter states that the repetitive inspection intervals for SSCs with any malfunction, as specified in paragraph (c) of the proposed AD, and the repetitive inspection intervals for SSCs with no malfunction, as specified in paragraph (d) of the proposed AD, are redundant.

Although the commenter does not make a specific request, we infer that the commenter is asking for clarification of the repetitive inspection intervals specified in paragraphs (c) and (d) of the proposed AD. We agree that some clarification is necessary; therefore, we have removed the repetitive inspection/check intervals for functioning SSCs from paragraph (c), and included clarification that the requirements in paragraph (c) are only for affected SSCs on which a malfunction is found. In addition, we have included clarification that the repetitive inspections/checks required by paragraph (d) are only for affected SSCs on which no malfunction is found.

Requests To Change Compliance Times

One commenter states that there is a difference between the proposed AD and the referenced French airworthiness directives regarding the starting date for the initial detailed inspection/functional check. The commenter also notes that there is a difference between the proposed AD and the referenced French airworthiness directives which provide a calendar date for accomplishment of the terminating action for all SSCs.

Although the commenter does not make a specific request, we infer that the commenter is asking that the compliance time for the initial detailed inspection/functional check and the terminating action, as specified in paragraphs (b) and (e) of the proposed AD, respectively, be changed to match the compliance times in the French airworthiness directives.

We do not agree. The French airworthiness directives give a compliance time for the initial detailed inspection/functional check based on the original issue date of those airworthiness directives. Due to some procedural differences in the way we express compliance times, the compliance time in this AD is presented in a manner that differs from that in the French airworthiness directives. However, the compliance time captures the intent of the French airworthiness directives, and ensures that operators of all affected airplanes are given sufficient time to accomplish the inspection, while still ensuring operational safety.

In addition, the compliance time in the French airworthiness directives for the terminating action specifies a calendar time, but we do not express compliance times in terms of calendar dates unless an engineering analysis establishes a direct relationship between the date and the compliance time. Additionally, a risk assessment done by the manufacturer and the DGAC, in agreement with the FAA, validates the compliance times required by this AD.

In light of these factors, we have determined that 700 flight hours for the initial detailed inspection/functional check, and 13 months for the terminating action, is appropriate. No change is made to the AD in this regard.

Another commenter asks that the compliance time for the terminating action be extended. The commenter states that the actions required by the proposed AD are best suited for a base maintenance environment. The commenter adds that the current compliance time of 13 months for accomplishment of the modification of the SSCs does not coincide with any scheduled maintenance interval. The commenter asks that the compliance time be extended to 18 months to correspond with the C-check interval.

We do not agree that the compliance time for the terminating action should be extended. As specified in our response above, a risk assessment done by the manufacturer and the DGAC, in agreement with the FAA, validates the compliance times required by this AD. No change is made to the AD in this regard.

Conclusion

We have carefully reviewed the available data, including the comments that have been submitted, and determined that air safety and the public interest require adopting the AD with the change described previously. We have determined that this change will neither increase the economic burden on any operator nor increase the scope of the AD.

Cost Impact

There are about 14 airplanes of U.S. registry that will be affected by this AD.

The AFM revision that is currently required by AD 2002-16-12 takes about 1 work hour per airplane to accomplish, at an average labor rate of $65 per work hour. Based on these figures, the cost impact of the currently required AFM revision is estimated to be $65 per airplane.

The new inspections/checks that are required by this AD action will take about 1 work hour per airplane to accomplish, at an average labor rate of $65 per work hour. Based on these figures, the cost impact of the inspections/checks required by this AD on U.S. operators is estimated to be $910, or $65 per airplane, per inspection/check cycle.

The new modification that is required by this AD action will take about 15 work hours per airplane to accomplish, at an average labor rate of $65 per work hour. Required parts will be provided to operators free of charge. Based on these figures, the cost impact of the modification required by this AD on U.S. operators is estimated to be $13,650, or $975 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Currently, there are no Model A340 series airplanes on the U.S. Register. However, if an affected airplane is imported and placed on the U.S. Register in the future, the new inspections/checks in this AD action would take about 1 work hour, at an average labor rate of $65 per work hour. Based on these figures, we estimate the cost of the inspections/checks to be $65 per airplane, per inspection/check cycle. The new modification in this AD action would take about 15 work hours per airplane to accomplish, at an average labor rate of $65 per work hour. Required parts would be provided to operators free of charge. Based on these figures, we estimate the cost of this modification to be $975 per airplane.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action: (1) Is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-12851 (67 FR 53478, August 16, 2002), and by adding a new airworthiness directive (AD), amendment 39-13793, to read as follows:

2004-18-14 Airbus: Amendment 39-13793. Docket 2002-NM-228-AD. Supersedes AD 2002-16-12, Amendment 39-12851.

Applicability: Model A330 and A340-200 and -300 series airplanes, certificated in any category; equipped with any spoiler servo control having part number (P/N) 1386A0000-01, 1386B0000-01, 1387A0000-01, or 1387B0000-01.

Compliance: Required as indicated, unless accomplished previously.

To ensure that the flightcrew is advised of the proper procedures in the event of uncommanded movement of a spoiler during flight, which could result in reduced controllability of the airplane and consequent significant increased fuel consumption during flight, and could result in an in-flight turn-back or diversion to an unscheduled airport destination, accomplish the following:

Restatement of Requirements of AD 2002-16-12

Revision to Airplane Flight Manual (AFM)

(a) Within 10 days after September 20, 2002 (the effective date of AD 2002-16-12, amendment 39-12851), revise the Limitations Section of the AFM by including the procedures listed in Figure 1 of this AD. This revision may be done by inserting a copy of the following Figure 1 into the AFM:

Figure 1

“PROCEDURE:
• If “F/CTL SPLR FAULT” is triggered
—F/CTL S/D
page | CHECK
• If the affected spoiler is not indicated extended amber:
The spoiler is faulty in the retracted position. In such a case, the specific OEB procedure does not apply.
—LDG DIST PROC Multiply the landing distance by 1.1 for 3 or 4 spoilers lost per wing. Multiply the landing distance by 1.2 for 5 or 6 spoilers lost per wing. | APPLY
• If the affected spoiler is indicated extended amber, apply the following procedure:
IN CRUISE
CAUTION
Disregard FMGC fuel predictions, as they do not take the increase in fuel consumption into account.
—FUEL CONSUMPTION INCREASE Apply 18.5% increase in the fuel consumption. | APPLY
—IN-FLIGHT TURN BACK/DIVERSION In-flight turn back or diversion may have to be considered due to this fuel penalty. | CONSIDER
—MAX ACHIEVABLE ALTITUDE DECREASE With the maximum spoiler deflection, the maximum altitude in ISA conditions may decrease by 4,500 feet. | CONSIDER
FOR LANDING
—FOR LDG Use CONF 3 for landing to avoid possible buffeting, which, however, may be high depending on the failed spoiler. | USE FLAP 3
—VAPP | NORM
—LDG DIST | x 1.1”

Note 1: When the procedure in paragraph (a) of this AD has been incorporated into the general revisions of the AFM, the general revisions may be incorporated into the AFM, provided the procedures in this AD and the general revisions are identical. This AD may then be removed from the AFM.

New Requirements of This AD

Initial Detailed Inspection/Functional Check

(b) Within 700 flight hours after the effective date of this AD: Do a detailed inspection/functional check of the blocking function of the pressure relief valves (PRVs) of affected spoiler servo controls (SSCs) by doing all the actions in accordance with paragraphs 3.A., 3.B.(1)(a), 3.D., and 3.E. of the Accomplishment Instructions of Airbus Service Bulletin A330-27-3090 (for A330 series airplanes) or A340-27-4096 (for A340-200 and -300 series airplanes), both Revision 02, both dated August 1, 2002, as applicable.

Note 2: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Note 3: Liebherr Service Bulletin 1386A-27-03, Revision 1, dated February 4, 2002, is referenced in Airbus Service Bulletins A330-27-3090 and A340-27-4096, both Revision 02, as an additional source of service information for accomplishment of the inspections.

Corrective Action

(c) For airplanes having an affected SSC on which any malfunction is found during the inspection/functional check required by paragraph (a) of this AD: Before further flight, do the terminating action required by paragraph (e) of this AD for that SSC.

(d) For airplanes having affected SSCs on which no malfunction is found during the inspection/functional check required by paragraph (a) of this AD: Repeat the inspection/functional check one time within 1,600 flight hours after accomplishment of the initial inspection required by paragraph (a) of this AD. If no malfunction is found, repeat the inspection/functional check thereafter at intervals not to exceed 2,400 flight hours, until accomplishment of the terminating action required by paragraph (e) of this AD.

Terminating Action

(e) Except as required by paragraph (c) of this AD: Within 13 months after the effective date of this AD, modify all affected SSCs by doing all the actions in accordance with the Accomplishment Instructions of Airbus Service Bulletin A330-27-3094 (for A330 series airplanes) or A340-27-4100 (for A340-200 and -300 series airplanes), both Revision 01, both dated August 1, 2002; as applicable. Modification of all affected SSCs terminates the requirements of paragraphs (a), (b), (c), and (d) of this AD. After the modification has been done, the previously required AFM revision may be removed.

Note 4: Liebherr Service Bulletin 1386A-27-05, dated February 25, 2002, is referenced in Airbus Service Bulletins A330-27-3094 and A340-27-4100 as an additional source of service information for accomplishment of the modification.

Previously Accomplished Actions

(f) Accomplishment of the inspections in accordance with Airbus Service Bulletins A330-27-3090 and A340-27-4096, both dated September 28, 2001; or A340-27-4096, Revision 01, dated December 12, 2001; as applicable; is considered acceptable for compliance with the inspections required by this AD.

(g) Airbus Service Bulletins A330-27-3090 and A340-27-4096, both dated August 1, 2002, specify to submit inspection results to the manufacturer, however; this AD does not include that requirement.

Parts Installation

(h) As of the effective date of this AD, no person may install on any airplane a spoiler servo control having P/N 1386A0000-01, 1386B0000-01, 1387A0000-01, or 1387B0000-01, unless it has been modified per paragraph (e) of this AD.

Alternative Methods of Compliance

(i) In accordance with 14 CFR 39.19, the Manager, International Branch, ANM-116, FAA, Transport Airplane Directorate, is authorized to approve alternative methods of compliance for this AD.

Incorporation by Reference

(j) The actions shall be done in accordance with the applicable service bulletins listed in Table 1 of this AD, unless the AD specifies otherwise.

Table 1.—Materials Incorporated by Reference
Airbus service bulletin | Revision level | Date
A330-27-3090 | 02 | Aug. 1, 2002.
A330-27-3094 | 01 | Aug. 1, 2002.
A340-27-4096 | 02 | Aug. 1, 2002.
A340-27-4100 | 01 | Aug. 1, 2002.

The Director of the Federal Register approved the incorporation by reference of these documents in accordance with 5 U.S.C. 552(a) and 1 CFR part 51. You can get copies of the documents from Airbus, 1 Rond Point Maurice Bellonte, 31707 Blagnac Cedex, France. You can review copies at the Docket Management Facility, U.S. Department of Transportation, 400 Seventh Street SW., room PL-401, Nassif Building, Washington, DC; or at the National Archives and Records Administration (NARA). For information on the availability of this material at NARA, call (202) 741-6030, or go to: http://www.archives.gov/federal_register/code_of_federal_regulations/ibr_locations.html.

Note 5: The subject of this AD is addressed in French airworthiness directives 2002-552(B) and 2002-553(B), both dated November 13, 2002.

Effective Date

(k) This amendment becomes effective on October 19, 2004.

Issued in Renton, Washington, on August 31, 2004.
Ali Bahrami,
Manager, Transport Airplane Directorate, Aircraft Certification Service.

[FR Doc. 04-20407 Filed 9-13-04; 8:45 am]

BILLING CODE 4910-13-P